DEPARTMENT OF ENERGY

Federal Energy Regulatory Commission

Combined Notice of Filings

Take notice that the Commission has received the following Natural Gas Pipeline Rate and Refund Report filings:

Filings Instituting Proceedings

Docket Numbers: PR24-52-000.

Applicants: Aethon United Pipeline LP.

Description: 284.123(g) Rate Filing: Petition for Rate Approval to be effective 3/1/2024.

Filed Date: 2/27/24.

Accession Number: 20240227-5181.

Comment Date: 5 p.m. ET 3/19/24.

284.123(g) Protest: 5 p.m. ET 4/29/24.

Docket Numbers: RP24-431-000.

Applicants: Empire Pipeline, Inc.

Description: Compliance filing: Refund Report Jan-Dec 2023 (Per Settlement in RP18-940) to be effective N/A.

Filed Date: 2/27/24.

Accession Number: 20240227-5140.

Comment Date: 5 p.m. ET 3/11/24.

Docket Numbers: RP24-433-000.

Applicants: ETC Tiger Pipeline, LLC.

Description: 4(d) Rate Filing: Amended NRA #4—BP Energy Co to be effective 3/1/2024.

Filed Date: 2/28/24.

Accession Number: 20240228-5067.

Comment Date: 5 p.m. ET 3/11/24.

Docket Numbers: RP24-434-000.

Applicants: High Island Offshore System, L.L.C.

Description: 2024 Annual Fuel Tracker Filing of High Island Offshore System, L.L.C.

Filed Date: 2/28/24.

Accession Number: 20240228-5094.

Comment Date: 5 p.m. ET 3/11/24.

Docket Numbers: RP24-435-000.

Applicants: TransCameron Pipeline, LLC.

Description: Annual Report of Operational Purchases and Sales of TransCameron Pipeline, LLC.

Filed Date: 2/28/24.

Accession Number: 20240228-5098.

Comment Date: 5 p.m. ET 3/11/24.

Docket Numbers: RP24-436-000.

Applicants: Algonquin Gas Transmission, LLC.

Description: 4(d) Rate Filing: Negotiated Rates—Yankee Gas to Emera Energy eff 2-28-24 to be effective 2/28/2024.

Filed Date: 2/28/24.

Accession Number: 20240228-5105.

Comment Date: 5 p.m. ET 3/11/24.

Docket Numbers: RP24-437-000.

Applicants: El Paso Natural Gas Company, L.L.C.

Description: 4(d) Rate Filing: Negotiated Rate Agreements Update (Hartree 614700 615843 610670 Mar 2024) to be effective 3/1/2024.

Filed Date: 2/28/24.

Accession Number: 20240228-5107.

Comment Date: 5 p.m. ET 3/11/24.

Docket Numbers: RP24-438-000.

Applicants: Wyoming Interstate Company, L.L.C.

Description: 4(d) Rate Filing: Non-Conforming Agreement Update Filing (Spotlight Amendment) to be effective 4/1/2024.

Filed Date: 2/28/24.

Accession Number: 20240228-5109.

Comment Date: 5 p.m. ET 3/11/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 28, 2024.
Debbie-Anne A. Reese,
Acting Secretary.

[FR Doc. 2024-04644 Filed 3-4-24; 8:45 am]

BILLING CODE 6717-01-P